DEPARTMENT OF ENERGY

Federal Energy Regulatory Commission

[Docket No. CP19-512-000]

Texas Eastern Transmission, L.P.; Notice of Revised Schedule for Environmental Review of the Cameron Extension Project

This notice identifies the Federal Energy Regulatory Commission staff's revised schedule for the completion of the environmental assessment (EA) for Texas Eastern Transmission, L.P.'s Cameron Extension Project. The first notice of schedule, issued on November 22, 2019, identified March 9, 2020 as the EA issuance date. On November 20, 2019, FERC staff requested additional environmental information to assist in its EA analysis regarding air modeling analysis and air quality screening of the proposed compressor station to demonstrate that emissions of criteria pollutants do not result in exceedance of the National Ambient Air Quality Standards. On February 20, 2020, Texas Eastern Transmission, L.P. filed the requested supplemental information and Commission staff is currently reviewing the information for completeness. Because this information was not provided in time to meet the original schedule, Commission staff has revised the schedule for issuance of the EA, as described below.

Schedule for Environmental Review

Issuance of the EA April 16, 2020

90-day Federal Authorization Decision Deadline July 15, 2020

If a schedule change becomes necessary, an additional notice will be provided so that the relevant agencies are kept informed of the project's progress.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP19-512), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: February 27, 2020.
Nathaniel J. Davis, Sr.,
Deputy Secretary.

[FR Doc. 2020-04445 Filed 3-3-20; 8:45 am]

BILLING CODE 6717-01-P